NUCLEAR REGULATORY COMMISSION

10 CFR Part 72

[RIN 3150-AH20]

List of Approved Spent Fuel Storage Casks: Standardized NUHOMS® -24P, -52B, -61BT, -32PT, and -24PHB Revision, Confirmation of Effective Date

AGENCY: Nuclear Regulatory Commission.

ACTION: Direct final rule: Confirmation of effective date.

SUMMARY: The Nuclear Regulatory Commission (NRC) is confirming the effective date of March 2, 2004, for the direct final rule that was published in the Federal Register on December 18, 2003. This direct final rule amended the NRC's regulations to revise the Transnuclear, Inc., Standardized NUHOMS® Horizontal Modular Storage System (Standardized NUHOMS® System) listing within the “List of approved spent fuel storage casks” to include Amendment No. 7 in Certificate of Compliance (CoC) Number 1004.

EFFECTIVE DATE: The effective date of March 2, 2004, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219, e-mail jmm2@nrc.gov.

SUPPLEMENTARY INFORMATION: On December 18, 2003 (68 FR 70423), the NRC published a direct final rule amending its regulations in 10 CFR part 72 to revise the Standardized NUHOMS® System listing within the “List of Approved Spent Fuel Storage Casks” to include Amendment No. 7 to CoC No. 1004. This amendment incorporates changes in support of the Amergen Corporation plans to load damaged fuel and additional fuel types at its Oyster Creek Nuclear Station. Specifically, the amendment adds damaged Boiling Water Reactor spent fuel assemblies and additional fuel types to the authorized contents of the NUHOMS®-61BT Dry Shielded Canister under a general license. In addition, the amendment includes three minor changes to the Technical Specifications to correct inconsistencies and remove irrelevant references. In the direct final rule, NRC stated that if no significant adverse comments were received, the direct final rule would become final on March 2, 2004. The NRC did not receive any comments that warranted withdrawal of the direct final rule. Therefore, this rule will become effective as scheduled.

Dated at Rockville, Maryland, this 23rd day of February, 2004.
For the Nuclear Regulatory Commission.
Michael T. Lesar,
Chief, Rules and Directives Branch, Division of Administrative Services, Office of Administration.

[FR Doc. 04-4342 Filed 2-26-04; 8:45 am]

BILLING CODE 7590-01-P